NUCLEAR REGULATORY COMMISSION

[NRC-2009-0074; Docket No. 50-414]

Duke Energy Carolinas, LLC; Notice of Withdrawal of Application for Amendment to Facility Operating License

The U.S. Nuclear Regulatory Commission (the Commission) has granted the request of Duke Energy Carolinas, LLC (the licensee) to withdraw its November 20, 2008, application, as supplemented by letter dated February 26, 2009, for proposed amendment to Facility Operating License No. 50-414 for Catawba Nuclear Station, Unit 2 (Catawba 2), located in York County, South Carolina.

The proposed amendment would have updated the leak-before-break evaluation for Catawba 2 and made associated updates to the Updated Final Safety Analysis Report for this unit.

The Commission had previously issued a Notice of Consideration of Issuance of Amendment published in the Federal Register on February 24, 2009 (74 FR 8273). However, by letter dated March 31, 2009, the licensee withdrew the proposed change.

For further details with respect to this action, see the application for amendment dated November 20, 2008, the supplement to the amendment dated February 26, 2009, and the licensee's letter dated March 31, 2009, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 5th day of August 2009.
For the Nuclear Regulatory Commission.
Jon H. Thompson,
Project Manager, Plant Licensing Branch 2-1, Division of Operating Reactor Licensing, Office of Nuclear Reactor Regulation.

[FR Doc. E9-19296 Filed 8-11-09; 8:45 am]

BILLING CODE 7590-01-P